DEPARTMENT OF HEALTH AND HUMAN SERVICES

Centers for Disease Control and Prevention

[30DAY-18-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Youth Media Campaign Tracking Study—New—National Center for Chronic Disease Prevention and Health Promotion (NCCDPHP), Centers for Disease Control and Prevention (CDC). CDC plans to conduct ongoing monitoring of the awareness and reaction to the brand and messages of the Youth Media Campaign. In FY 2001, Congress established the Youth Media Campaign at the Centers for Disease Control and Prevention (CDC). Specifically, the House Appropriations Language said: The Committee believes that, if we are to have a positive impact on the future health of the American population, we must change the behaviors of our children and young adults by reaching them with important health messages. CDC, working in collaboration with federal partners, is coordinating an effort to plan, implement, and evaluate a campaign designed to clearly communicate messages that will help kids develop habits that foster good health over a lifetime.

The Campaign will be based on principles that have been shown to enhance success, including: Designing messages based on research; testing messages with the intended audiences; involving young people in all aspects of Campaign planning and implementation; enlisting the involvement and support of parents and other influencers; tracking the Campaign's effectiveness and revising Campaign messages and strategies as needed.

For the Campaign to be successful, ongoing monitoring of the campaign's penetration with the target audiences is essential. Campaign planners must have mechanisms to determine the targets' awareness of, and reaction to, the campaign brand and messages as the campaign evolves. Campaign planners also need to identify which messages are likely to have the greatest impact on attitudes and desired behaviors. The purpose of this monitoring strategy is to continually assess and improve the effectiveness of the targeted communication and other marketing variables throughout the evolution of the campaign. Another important objective is to determine which media channels are most effective'to optimize communication variables such as weight levels, frequency and reach components, programming formats, etc. that will have the greatest effect upon communicating the desired message to the target audiences. As the marketing efforts are implemented in selected cities, the Campaign planners also want to evaluate which strategies are most effective in which locales.

The Youth Media Campaign will use a tracking methodology using age-targeted samples. Tracking methods may include, but are not limited to telephone surveys, telephone or in-person focus groups, web-based surveys, or intercept interviews with tweens, parents, other teen influencers and adult influencers nationally and in cities with YMC-hosted events. Continuous tracking of awareness of the brand and the advertising messages are standard tools in advertising and marketing. The commitment of resources to YMC's marketing efforts mandates that campaign planners be able to respond quickly to changes needed in message execution or delivery as is standard practice in the advertising industry. The total burden for this data collection is 2,285 hours.

Survey | Respondents | Number of respondents | Number of responses per respondent | Average burden per response (in hrs.)
Media Benchmarking Survey | Screener Parent Child | 7,170 650 650 | 1 1 1 | 2/60 3/60 12/60
Continuous Tracking Survey (national & community) | Screener Parent Child | 29,076 7,200 7,200 | 1 1 1 | 1/60 3/60 12/60

Dated: January 10, 2003.
Thomas Bartenfeld,
Acting Associate Director for Policy, Planning and Evaluation, Centers for Disease Control and Prevention.

[FR Doc. 03-1177 Filed 1-17-03; 8:45 am]

BILLING CODE 4163-18-P